DEPARTMENT OF DEFENSE

Department of the Army

Availability for Non-Exclusive, Exclusive, or Partially Exclusive Licensing of U.S. Patent Application Concerning Inducing and Sealing Cracks in Containment Vessels

AGENCY: Department of the Army, DoD.

ACTION: Notice.

SUMMARY: In accordance with 37 CFR 404.6 and 404.7, announcement is made of the availability of licensing of the invention set forth in U.S. Patent Application No. 11/460,593 entitled “Method of Inducing and Sealing Cracks in Vessels,” filed on July 27, 2006. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil; (256) 955-3213 or Ms. Susan D. McRae, Office of Research and Technology Applications, e-mail: susan.mcrae@smdc.army.mil; (256) 955-1501.

SUPPLEMENTARY INFORMATION: The invention pertains to inducing and sealing cracks in newly constructed containment vessels, such as linerless composite tanks, that are subject to crack propagation during the life of the vessels. The cracks are sealed before the vessel is placed in service to prevent or reduce leakage of the fluids that are stored in the vessels.

Brenda S. Bowen,
Army Federal Register Liaison Officer.

[FR Doc. 07-721 Filed 2-15-07; 8:45 am]

BILLING CODE 3710-08-M